DEPARTMENT OF TRANSPORTATION

Office of the Secretary

Aviation Proceedings, Agreements Filed the Week Ending July 28, 2006

The following Agreements were filed with the Department of Transportation under the sections 412 and 414 of the Federal Aviation Act, as amended (49 U.S.C. 1382 and 1384) and procedures governing proceedings to enforce these provisions. Answers may be filed within 21 days after the filing of the application.

Docket Number: OST-2006-25479.

Date Filed: July 27, 2006.

Parties: Members of the International Air Transport Association.

Subject: PAC/RESO/448 dated July 27, 2006. Twenty-Ninth Passenger Agency Conference (PACONF/29) Geneva, 28-30 June 2006. Adopted Resolutions for Expedited Implementation. Intended effective date: September 1, 2006.

Docket Number: OST-2006-25480.

Date Filed: July 27, 2006.

Parties: Members of the International Air Transport Association.

Subject: TC2 Europe-Middle East. Expedited Resolution 002dk (Memo 0224). Intended effective date: August 15, 2006.

Docket Number: OST-2006-25481.

Date Filed: July 27, 2006.

Parties: Members of the International Air Transport Association.

Subject: TC2 Within Middle East. Expedited Resolutions (Memo 0161). Intended effective date: August 15, 2006.

Docket Number: OST-2006-25505.

Date Filed: July 28, 2006.

Parties: Members of the International Air Transport Association.

Subject: CBPP/15/Meet/004/05 dated July 25, 2006. Finally Adopted Resolutions: 600a. Intended effective date: December 1, 2006.

Barbara J. Hairston,
Supervisory Dockets Officer, Alternate Federal Register Liaison.

[FR Doc. E6-13037 Filed 8-9-06; 8:45 am]

BILLING CODE 4910-9X-P